FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 11, 2019.

A. Federal Reserve Bank of Chicago (Colette A. Fried, Assistant Vice President) 230 South LaSalle Street, Chicago, Illinois 60690-1414:

1. William Nathan Salin Family Irrevocable Trust #1, Carmel, Indiana, and Margaret Jane Salin, Carmel, Indiana, as Trustee, individually, and together as a group acting in concert, with the Margaret Jane Salin Irrevocable Grandchildren's Trust No. 1 dated December 11, 2012, Trustee William N. Salin II, Syracuse, Indiana, the William N. Salin, II, Irrevocable Children's Trust dated December 11, 2012, Trustee, William N. Salin II, Syracuse, Indiana, the Margaret Jane Salin Irrevocable Grandchildren's Trust No. 2 dated December 11, 2012, Trustee Sherri S. Fritsch, Carmel, Indiana, the Sherri Fritsch Irrevocable Children's Trust dated December 11, 2012, Trustee Sherri S. Fritsch, Carmel, Indiana, the Margaret Jane Salin Irrevocable Grandchildren's Trust No. 3 dated December 11, 2012, Trustee Susan S. McClain, Carmel, Indiana, the Susan McClain Irrevocable Children's Trust dated December 11, 2012, Trustee Susan S. McClain, William N. Salin II, Syracuse, Indiana, Sherri S. Fritsch, Carmel, Indiana, and Susan S. McClain, Carmel, Indiana; to acquire voting shares of Horizon Bancorp, and thereby indirectly acquire shares of Horizon Bank, both of Michigan City, Indiana.

Board of Governors of the Federal Reserve System, February 19, 2019.
Yao-Chin Chao,
Assistant Secretary of the Board.

[FR Doc. 2019-03092 Filed 2-21-19; 8:45 am]

BILLING CODE 6210-01-P